DEPARTMENT OF EDUCATION

Office of Innovation and Improvement; Women's Educational Equity Act Program

Catalog of Federal Domestic Assistance (CFDA) Number: 84.083A.

ACTION: Notice inviting applications for new awards for fiscal year (FY) 2009; correction.

SUMMARY: The Department of Education is correcting the notice inviting applications for new awards for FY 2009 for the Women's Educational Equity Act Program (WEEA) that was published in the Federal Register on January 2, 2009 (74 FR 101). On page 105, in the third column, second line, the e-mail address is corrected to read “oii.weea@ed.gov.”

FOR FURTHER INFORMATION CONTACT: Beverly A. Farrar, U.S. Department of Education, 400 Maryland Avenue, SW., Room 4W242, Washington, DC 20202-5950. Telephone: (202) 205-3145.

If you use a telecommunications device for the deaf (TDD), call the Federal Relay Service (FRS), toll free, at 1-800-877-8339.

Individuals with disabilities can obtain this document in an accessible format (e.g., braille, large print, audiotape, or computer diskette) on request to the contact person listed under this section.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 8, 2009.
Amanda L. Farris,
Assistant Deputy Secretary for Innovation and Improvement.

[FR Doc. E9-744 Filed 1-14-09; 8:45 am]

BILLING CODE 4000-01-P